DEPARTMENT OF THE TREASURY

Agency Information Collection Activities; Proposed Collection; Comment Request; Multiple Departmental Offices Information Collection Requests

AGENCY: Departmental Offices, U.S. Department of the Treasury.

ACTION: Notice of information collection; request for comment.

SUMMARY: The Department of the Treasury, as part of its continuing effort to reduce paperwork and respondent burden, invites the general public and other federal agencies to comment on the proposed information collections listed below, in accordance with the Paperwork Reduction Act of 1995.

DATES: Written comments must be received on or before February 24, 2025.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

1. Title: Solicitation of Proposal Information for Award of Public Contracts.

OMB Control Number: 1505-0081.

Type of Review: Extension without change of a currently approved collection.

Description: Treasury Bureaus and the Office of the Procurement Executive collect information when inviting firms to submit proposals for public contracts for supplies and services. The information collection is necessary for compliance with the Federal Property and Administrative Services Act (41 U.S.C. 251 et seq.), the Federal Acquisition Regulation (FAR) (48 CFR Chapter 1) and applicable acquisition regulations.

Form: None.

Affected Public: Businesses or other for-profits.

Estimated Number of Respondents: 20,946.

Frequency of Response: On occasion.

Estimated Total Number of Annual Responses: 20,946.

Estimated Time per Response: Varies depending on proposal type and proposal requirements. Average burden estimate is 10.48 hours per submission.

Estimated Total Annual Burden Hours: 217,812.

2. Title: Coronavirus Economic Relief for Transportation Services (CERTS).

OMB Control Number: 1505-0273.

Type of Review: Extension without change of a currently approved collection.

Description: On December 27, 2020, the President signed the Consolidated Appropriations Act, 2021. Division N, Title IV, Subtitle B, Section 421 of the Act provides $2 billion for the U.S. Department of the Treasury to provide grants to eligible providers of transportation services (“Recipients”) under the Coronavirus Economic Relief for Transportation Services (“CERTS”) Program. Recipients include motorcoach companies, school bus companies, passenger vessel companies, and pilotage companies. Under Section 421 of the Act, Recipients must demonstrate significant revenue losses as a result of COVID-19, and must use grant funds for payroll costs and for other eligible operating expenses. At this point, all funds have been distributed and reporting requirements have been completed. Recipients are required to retain records for three years after funds are expended or returned to Treasury.

Form: None.

Affected Public: Businesses or other for-profits.

Estimated Number of Respondents: 1,460.

Frequency of Response: On occasion.

Estimated Total Number of Annual Responses: 1,460.

Estimated Time per Response: 15 minutes.

Estimated Total Annual Burden Hours: 365.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2024-30783 Filed 12-23-24; 8:45 am]

BILLING CODE 4810-AK-P